DEPARTMENT OF THE INTERIOR

National Park Service

Final Environmental Impact Statement; Giacomini Wetlands Restoration; Point Reyes National Seashore; Marin County, CA; Notice of Approval of Record of Decision

Summary: Pursuant to § 102(2)(C) of the National Environmental Policy Act of 1969 (Pub. L. 91-190, as amended) and the implementing regulations promulgated by the Council on Environmental Quality (40 CFR 1505.2), the Department of the Interior, National Park Service has prepared, in conjunction with the California State Lands Commission as co-lead agency, the Final Environmental Impact Statement (EIS) for restoring the Giacomini Wetlands in the Golden Gate National Recreation Area (north district), administered by Point Reyes National Seashore. The Regional Director, Pacific West Region has approved the Record of Decision and supporting Statement of Findings for Wetlands and Floodplains for this restoration project. The formal no-action period was officially initiated June 27, 2007, with the U.S. Environmental Protection Agency's Federal Register notification of the filing of the Final EIS.

Decision: As soon as practicable the Seashore will begin to implement restoration efforts of the “environmentally preferred” Alternative D as detailed in the Final EIS. The selected plan maximizes ecological restoration while providing public access and overlooks for viewing the restoration area. Work elements include removal of earthern levees and appurtenant infrastructure, and recreation of tidal channels and freshwater breeding habitat for California red-legged frogs. Certain public access features will be maintained or enhanced, and additionally the Seashore will collaborate with the County of Marin (including further conservation planning as appropriate) on additional public access facilities on the southern perimeter of the project area in furtherance of the Countywide Plan.

As documented in the Final EIS, this course of action was deemed to be “environmentally preferred”. The preferred plan and four alternatives were identified and analyzed in the Final EIS, and previously in the Draft EIS (the latter was distributed in December, 2006). The full spectrums of foreseeable environmental consequences were assessed, and appropriate mitigation measures identified, for each alternative. Beginning with early scoping, through the preparation of the Draft and Final EIS, numerous public meetings were hosted. Approximately 200 oral and written comments were received during the scoping phase or in response to the Draft EIS. Key consultations or other contacts which aided in preparing the Draft and Final EIS involved (but were not limited to) the California Coastal Commission, Department of Fish and Game, and State Historic Preservation Office, the Marin County Parks and Open Space, the U.S. Fish and Wildlife Service and National Marine Fisheries Service. Local communities, county and city officials, and interested organizations were contacted extensively during initial scoping and throughout the conservation planning and environmental impact analysis process.

Copies: Interested parties desiring to review the Record of Decision may obtain a complete copy by contacting the Superintendent, Pt. Reyes National Seashore, Point Reyes, CA 94956; or via telephone request at (415) 464-5100.

Dated: August 16, 2007.
Jonathan B. Jarvis,
Regional Director, Pacific West Region.

[FR Doc. E7-21576 Filed 11-1-07; 8:45 am]

BILLING CODE 4312-FW-P